DEPARTMENT OF TRANSPORTATION

Federal Aviation Administration

14 CFR Part 39

[Docket No. FAA-2013-0661; Directorate Identifier 2013-CE-009-AD; Amendment 39-17693; AD 2013-24-16]

RIN 2120-AA64

Airworthiness Directives; Schempp-Hirth Flugzeugbau GmbH Gliders

AGENCY: Federal Aviation Administration (FAA), Department of Transportation (DOT).

ACTION: Final rule.

SUMMARY: We are adopting a new airworthiness directive (AD) for Schempp-Hirth Flugzeugbau GmbH Model Duo Discus T gliders. This AD results from mandatory continuing airworthiness information (MCAI) issued by an aviation authority of another country to identify and correct an unsafe condition on an aviation product. The MCAI describes the unsafe condition as the instructions provided to inspect the propeller hub and blades are insufficient for detecting cracks and/or other damage, and other operating instructions provided by the flight and maintenance manual are incorrect and insufficient. We are issuing this AD to require actions to address the unsafe condition on these products.

DATES: This AD is effective January 28, 2014.

The Director of the Federal Register approved the incorporation by reference of certain publications listed in the AD as of January 28, 2014.

ADDRESSES: You may examine the AD docket on the Internet at http://www.regulations.gov; or in person at Document Management Facility, U.S. Department of Transportation, Docket Operations, M-30, West Building Ground Floor, Room W12-140, 1200 New Jersey Avenue SE., Washington, DC 20590.

For service information identified in this AD, contact Schempp-Hirth Flugzeugbau GmbH, Krebenstrasse 25, 73230 Kirchheim/Teck, Germany; telephone: +49 7021 7298-0; fax: +49 7021 7298-199; email: info@schempp-hirth.com; Internet: http://www.schempp-hirth.com. You may review copies of the referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 to include an AD that would apply to the specified products. That NPRM was published in the Federal Register on July 29, 2013 (78 FR 45471). That NPRM proposed to correct an unsafe condition for the specified products. The MCAI states:

It was found that the accomplishment instructions provided to check the powered sailplane's propeller hub and blades were not sufficient to detect cracks and/or other damage. The results of a subsequent manual review revealed that some other operating instructions provided by the sailplane flight and maintenance manual were neither correct nor sufficient.

This condition, if not corrected, could lead to operation of the powered sailplane outside its certified limits.

To address this unsafe condition, EASA issued AD 2013-0012 to require amendment of sailplane flight- and maintenance manuals to correct the operating instruction deficiencies and inaccuracies and, for Arcus T sailplanes that had been repaired before the applicable maintenance manual update, an elevator or wing flap hinge moment weight check, as applicable.

Since that AD was published, Schempp-Hirth Flugzeugbau GmbH determined that Action 3 of the accomplishment instructions of Technical Note (Technische Mitteilung) (TN) 890-13, referenced for Duo Discus T sailplanes, was incorrect for S/N 1 through 174. To correct this erroneous maintenance instruction, Schempp-Hirth Flugzeugbau GmbH issued TN 890-13 issue 2.

For the reasons described above, this AD retains the requirements of EASA AD 2013-0012, which is superseded, and requires, for certain Duo Discus T powered sailplanes, the use of instructions as provided in TN 890-13 issue 2.

The MCAI requires exchange of flight manual pages (which introduces a repetitive inspection of the power plant), exchange of maintenance manual pages, exchange of cockpit placards, and transfer of weight and balance data. EASA AD No.: 2013-0054, dated March 5, 2013, supersedes EASA AD No. 2013-0012, dated January 15, 2013. No FAA action was taken on EASA AD No. 2013-0012. You may examine the MCAI in the AD docket on the Internet at http://www.regulations.gov/#!documentDetail;D=FAA-2013-0661-0002.

Comments

We gave the public the opportunity to participate in developing this AD. We received no comments on the NPRM (78 FR 45471, July 29, 2013) or on the determination of the cost to the public.

Conclusion

We reviewed the relevant data and determined that air safety and the public interest require adopting the AD as proposed except for minor editorial changes. We have determined that these minor changes:

• Are consistent with the intent that was proposed in the NPRM (78 FR 45471, July 29, 2013) for correcting the unsafe condition; and

• Do not add any additional burden upon the public than was already proposed in the NPRM (78 FR 45471, July 29, 2013).

Costs of Compliance

We estimate that this AD will affect 5 products of U.S. registry. We also estimate that it will take about 2.5 work-hours per product to comply with the basic requirements of this AD. The average labor rate is $85 per work-hour. Required parts will cost about $50 per product.

Based on these figures, we estimate the cost of this AD on U.S. operators to be $1,312.50, or $262.50 per product.

In addition, we estimate that any necessary follow-on actions will take about 5 work-hours and require parts costing $3,840, for a cost of $4,265 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov/#!documentDetail;D=FAA-;2013-0661-0002; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-24-16 Schempp-Hirth Flugzeugbau GmbH: Amendment 39-17693; Docket No. FAA-2013-0661; Directorate Identifier 2013-CE-009-AD

(a) Effective Date

This airworthiness directive (AD) becomes effective January 28, 2014.

(b) Affected ADs

None.

(c) Applicability

This AD applies to Schempp-Hirth Flugzeugbau GmbH Model Duo Discus T gliders, serial numbers (S/N) 1 through 240, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as the instructions provided to inspect the propeller hub and blades are insufficient for detecting cracks and/or other damage, and other operating instructions provided by the flight and maintenance manual are incorrect and insufficient. We are issuing this AD to ensure that the instructions for inspecting the propeller hub and blades are sufficient to detect cracks and/or other damage and instructions of the flight and maintenance manual are correct and sufficient.

(f) Actions and Compliance

Unless already done, do the following actions as specified in paragraphs (f)(1) through (f)(6) of this AD, including all subparagraphs:

(1) Within 30 days after January 28, 2014 (the effective date of this AD), incorporate amended pages into the applicable FAA-approved sailplane flight manual (SFM), following Action 1 of Schempp-Hirth Flugzeugbau GmbH Technical Note No. 890-13, 2nd issue, dated March 5, 2013.

(2) Within 60 days after January 28, 2014 (the effective date of this AD), do the actions specified in paragraphs (f)(2)(i) through (f)(2)(iii) of this AD:

(i) Incorporate amended pages into the FAA-approved SFM and sailplane maintenance manual (SMM), as applicable, following Action 2 and Action 3 of Schempp-Hirth Flugzeugbau GmbH Technical Note No. 890-13, 2nd issue, dated March 5, 2013.

(ii) Install the amended cockpit placards following Action 4 of Schempp-Hirth Flugzeugbau GmbH Technical Note No. 890-13, 2nd issue, dated March 5, 2013. Replace previous placard as necessary.

(iii) Transfer weight and balance data from weight and balance report into the weight and balance log sheet following Action 5 of Schempp-Hirth Flugzeugbau GmbH Technical Note No. 890-13, 2nd issue, dated March 5, 2013.

(3) The actions required by paragraph (f)(1) and (f)(2)(i) of this AD may be performed by the owner/operator (pilot) holding at least a private pilot certificate and must be entered into the aircraft records showing compliance with this AD following 14 CFR § 43.9 (a)(1) through (4) and 14 CFR 91.417(a)(2)(v). The record must be maintained as required by 14 CFR 91.417, 121.380, or 135.439.

(4) Initially within 30 days after January 28, 2014 (the effective date of this AD) and repetitively thereafter at intervals not to exceed 12 calendar months, visually inspect (pre-flight) the power plant (propeller hub and propeller blades) for cracks or other damage using the following service information in paragraphs (f)(4)(i) and (f)(4)(ii) of this AD:

(i) For S/N 1 through 174: Use step (4)(c) of the Visual inspection of the power plant section on page 4.3.3 of Schempp-Hirth Flugzeugbau GmbH Duo Discus T Flight Manual issue May 2000, Revision No. 12, Date of issue November 2011; as specified in Schempp-Hirth Flugzeugbau GmbH Technical Note No. 890-13, 2nd issue, dated March 5, 2013.

(ii) For S/N 175 through 240: Use step (4)(c) of the Visual inspection of the power plant section on page 4.3.3, of Schempp-Hirth Flugzeugbau GmbH Duo Discus T Flight Manual issue October 2007, Revision No. 2, Date of issue November 2011; as specified in Schempp-Hirth Flugzeugbau GmbH Technical Note No. 890-13, 2nd issue, dated March 5, 2013.

Note 1 to paragraph (f)(4)(ii) of this AD: The flight manual references TN 890-13 and MB 890-8; however, neither are part of the flight manual. Also, MB 890-8 does not apply to the airplanes included in the Applicability of this AD.

(5) If any cracks or other damage is found during any inspection required by paragraph (f)(4) of this AD, before further flight, replace any parts found with cracks and repair any damage.

(6) The revised SFM pages require pre-flight checks that may be done by the pilot. However, the inspection actions required in paragraph (f)(4) of this AD, to include all subparagraphs, are separate from the pilot pre-flight checks and must be done by a properly certificated aircraft mechanic.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0054, dated March 5, 2013, for more information. You may examine the MCAI in the AD docket on the Internet http://www.regulations.gov/#!documentDetail; D=FAA-2013-0661-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Schempp-Hirth Flugzeugbau GmbH Technische Mitteilung Nr. 890-13, 2. Augabe, dated March 5, 2013 (English translation: Schempp-Hirth Flugzeugbau GmbH Technical Note No. 890-13, 2nd Issue, dated March 5, 2013);

(ii) Schempp-Hirth Flugzeugbau GmbH Duo Discus T FLUGHANDBUCH Ausgabe Oktober 2007, Lfd. Nr. der Berichtigung 2, Datum der Berichtigung November 2011 (English translation: Schempp-Hirth Flugzeugbau GmbH Duo Discus T Flight Manual issue October 2007, Revision No. 2, Date of issue November 2011); and

(iii) Schempp-Hirth Flugzeugbau GmbH Duo Discus T FLUGHANDBUCH Ausgabe Mai 2000, Lfd. Nr. der Berichtigung 12, Datum der Berichtigung November 2011 (English translation: Schempp-Hirth Flugzeugbau GmbH Duo Discus T Flight Manual issue May 2000, Revision No. 12, Date of issue November 2011).

Note 2 to paragraphs (i)(2)(i) through (i)(2)(iii) of this AD: This service information contains German to English translation. EASA used the English translation in referencing the documents from Schempp-Hirth Flugzeugbau GmbH. For enforceability purposes, we will refer to the Schempp-Hirth Flugzeugbau GmbH service information as the titles appear on the documents.

(3) For Schempp-Hirth Flugzeugbau GmbH service information identified in this AD, contact Schempp-Hirth Flugzeugbau GmbH, Krebenstrasse 25, 73230 Kirchheim/Teck, Germany; telephone: +49 7021 7298-0; fax: +49 7021 7298-199; email: info@schempp-hirth.com; Internet: http://www.schempp-hirth.com.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html

Issued in Kansas City, Missouri, on November 26, 2013.
Earl Lawrence,
Manager, Small Airplane Directorate, Aircraft Certification Service.

[FR Doc. 2013-30460 Filed 12-23-13; 8:45 am]

BILLING CODE 4910-13-P